DEPARTMENT OF COMMERCE

National Institute of Standards and Technology

Proposed Information Collection; Comment Request; Guide for Preparing and Submitting White Papers to the Technology Innovation Program

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 22, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Ashley Howell at (301) 975-8252 or Ashley.Howell@nist.gov.

SUPPLEMENTARY INFORMATION:

I. Abstract

The Director of the National Institute of Standards and Technology (NIST), United States Department of Commerce, requests comments on the proposed Guide for Preparing and Submitting White Papers to the Technology Innovation Program. The guide explains how interested parties can participate in helping to develop new areas for future competitions for the Technology Innovation Program (TIP) by offering ideas in the form of a white paper. These white papers will be used by TIP staff in an effort to create a pipeline of societal challenges suitable for future funding opportunities. Societal challenges are problems that are not being addressed or funded but that could be addressed by innovative technologies and high-risk, high-reward research. The creative thoughts put forth in these white papers will be used to leverage nationally-recognized science and technology reports, knowledge from NIST, other government agencies, scientific advisory bodies, industry organizations, and leading researchers from academic institutions.

TIP uses white papers to shape future competitions. The pertinent ideas, concepts and knowledge offered by stakeholders in these white papers combined with information from a variety of other sources, enable TIP to identify and address areas of critical national need and associated societal challenges suitable for TIP investment.

II. Method of Collection

Electronically via tipwhitepaper@nist.gov.

III. Data

OMB Control Number: None.

Form Number: N/A.

Type of Review: Regular submission.

Affected Public: Federal government; State, local and tribal governments; Business or other for-profit organizations; Not-for-profit institutions; Individuals or households; and scientific advisory bodies.

Estimated Number of Respondents: 100.

Estimated Time per Response: 4 hours.

Estimated Total Annual Burden Hours: 400.

Estimated Total Annual Cost to Public: $700.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2009.
Gwellnar Banks,
Management Analyst, Office of the Chief Information Officer.

[FR Doc. E9-30555 Filed 12-23-09; 8:45 am]

BILLING CODE 3510-13-P